DEPARTMENT OF AGRICULTURE

Food and Nutrition Service

Agency Information Collection Activities: Proposed Collection; Comment Request: Additional Information To Be Collected Under the Uniform Grant Application Package for Discretionary Grant Programs for the Emergency Food Assistance Program Reach and Resiliency Grants

AGENCY: Food and Nutrition Service (FNS), USDA.

ACTION: Notice.

SUMMARY: This Notice announces that the United States Department of Agriculture's (USDA) Food and Nutrition Service (FNS) plans to add The Emergency Food Assistance Program (TEFAP) Reach and Resiliency Grants, as authorized by the American Rescue Plan Act, to its list of approved programs under the Uniform Grant Application for Non-Entitlement Discretionary Grants, as approved under OMB Control Number: 0584-0512 (Expiration Date: July 31, 2022); and that FNS intends to collect additional information for the TEFAP Reach and Resiliency Grants outside of what is currently in the uniform package. This Notice solicits public comments on the additional information to be collected for the TEFAP Reach and Resiliency Grants.

DATES: To be assured of consideration, written comments must be submitted or postmarked on or before September 14, 2021.

ADDRESSES:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond.

Comments must be submitted through one of the following methods:

• Preferred method: Submit information through the Federal eRulemaking Portal at http://www.regulations.gov. Follow the online instructions for submissions.

• Email: Send comments to rachel.schoenian@usda.gov with a subject line “TEFAP Reach and Resiliency Grant Information Collection.”

FOR FURTHER INFORMATION CONTACT: Rachel Schoenian, Food Distribution Division, Food and Nutrition Service, U.S. Department of Agriculture, 1320 Braddock Place, Alexandria, Virginia 22314, 703-305-2937, or email rachel.schoenian@usda.gov.

SUPPLEMENTARY INFORMATION: Utilizing funding and authority provided by Section 1001(b)(4) of the American Rescue Plan Act (ARPA, P.L. 117-2), USDA is establishing a new grant program for State agencies that administer The Emergency Food Assistance Program (TEFAP), aimed at helping strengthen TEFAP infrastructure and expand TEFAP's reach into rural, remote, and/or low-income communities that are underserved by TEFAP.

TEFAP Reach and Resiliency Grants will be offered in two rounds. As planned, half of the funds ($50 million) will be offered to States in Fall 2021. Each TEFAP State agency will be able to apply for a fair share portion of the initial funding according to the TEFAP funding formula at 7 CFR 251.3(h). FNS will use lessons learned from the first round of Reach and Resiliency Grants to determine the best method for offering the second round.

For the first round of grant funding, eligible entities will submit an application using FNS' Uniform Grant Application for Discretionary Grant Programs (OMB Control Number: 0584-0512, Expiration Date: July 31, 2022), which will include up to ten additional questions related to the goals of the Reach and Resiliency grants. These questions will be outlined in the Request for Applications for the TEFAP Reach and Resiliency Grant and be incorporated into the grant application template. State agencies will have the option to use the optional template or any other format to answer the questions. The additional questions included will relate to how TEFAP State agencies will utilize TEFAP Reach and Resiliency grant funding and how the State's project will: (1) Strengthen infrastructure; and (2) expand reach into rural, remote, and/or low-income communities currently underserved by TEFAP in the State. This will include submission of data that identifies those underserved areas. Additional information that State agencies will also need to provide includes the names of anticipated partners, the percentage of funds that will be kept at the State-level, and other information that ensures the proposed use of the grant complies with current program regulations.

To measure impact of the grants and to determine whether the grants achieve their intended purposes, grantees will be required to provide narrative, biannual progress reports using the FNS-908 Performance Progress Report form, as a condition to accepting grant funding. In addition to this standard form, grantees will be asked to respond to two more questions related to progress made toward achieving the goals of the grant program, on a biannual basis. These questions may include updates to any data submitted in the grant application. The two additional questions will be outlined in the Request for Applications for the TEFAP Reach and Resiliency grant. A template submission form will be provided to grantees to report this information, but they will have the option of reporting the information in any format they choose.

With the additional information that will be requested, FNS estimates that each State agency will spend a total of approximately 53.58 hours completing the full grant application package. Under 0584-0512, FNS has 114,431 remaining burden hours and 23,293 remaining responses available for use. Under the TEFAP Reach and Resiliency Grants, State agencies are expected to use 4,763.99 burden hours and 1,458 responses for the pre-award, post-award and recordkeeping burden, including the additional information to be collected. All three items make up the burden for the competitive grants that are submitted under 0584-0512.

This purpose of this Notice is to solicit public comments on the additional information to be collected for the TEFAP Reach and Resiliency Grants through the ten question application questionnaire and through the two question biannual progress reports for the grant program. Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond.

FNS will utilize these comments to adjust the information collection as necessary.

Cynthia Long,
Acting Administrator, Food and Nutrition Service.

[FR Doc. 2021-19764 Filed 9-13-21; 8:45 am]

BILLING CODE 3410-30-P